DEPARTMENT OF HOMELAND SECURITY

Coast Guard

46 CFR Parts 24, 30, 70, 90, and 188

[Docket No. USCG-2012-0919]

RIN 1625-AB83

Lifesaving Devices—Uninspected Commercial Barges and Sailing Vessels

AGENCY: Coast Guard, DHS.

ACTION: Correcting amendment.

SUMMARY: The Coast Guard published a final rule in the Federal Register on September 10, 2014, requiring the use of wearable personal flotation devices for individuals on board uninspected non-passenger commercial barges and sailing vessels. In the final rule, the Coast Guard amended several tables to reflect this requirement. However, in a subsequent final rule regarding non-substantive changes, the Coast Guard removed the same tables in an effort to consolidate the regulations by referencing to a common table instead. The original final rule's amendatory instructions can no longer be amended as the tables were removed prior to the original final rule's effective date by the subsequent effective final rule. This correction removes the amendatory instructions in the original final rule for the affected tables.

DATES: This correction is effective on November 17, 2014.

FOR FURTHER INFORMATION CONTACT: If you have questions on this correction, call or email Paul Crissy, Office of Standards Evaluation and Development, Coast Guard; telephone 202-372-1093, email Paul.H.Crissy@uscg.mil. If you have questions on viewing material on the docket, call Cheryl Collins, Program Manager, Docket Operations, telephone 202-366-9826.

SUPPLEMENTARY INFORMATION: To view the original final rule document, visit http://www.gpo.gov/fdsys/granule/FR-2014-09-10/2014-21541.

Background

The Coast Guard published a final rule in the Federal Register of September 10, 2014, (79 FR 53621), amending Tables 2.01-7(a), 24.05-1(a), 30.01-5(d), 70.05-1(a), 90.05-1(a), and 188.05-1(a). The Coast Guard published a second final rule in the Federal Register of September 29, 2014, (79 FR 58270), removing Tables 24.05-1(a), 30.01-5(d), 70.05-1(a), 90.05-1(a), and 188.05-1(a), making a reference back to Table 2.01-7(a) instead. This correction removes the amendatory instructions for Tables 24.05-1(a), 30.01-5(d), 70.05-1(a), 90.05-1(a), and 188.05-1(a) published on September 10, 2014.

Need for Correction

The Coast Guard published two final rules in the Federal Register that created the need for this correction. The Coast Guard amended Tables 2.01-7(a), 24.05-1(a), 30.01-5(d), 70.05-1(a), 90.05-1(a), and 188.05-1(a) on September 10, 2014, (79 FR 53621), which became effective on October 10, 2014. However, subsequently, in the Federal Register of September 29, 2014, (79 FR 58270), the Coast Guard removed Tables 24.05-1(a), 30.01-5(d), 70.05-1(a), 90.05-1(a), and 188.05-1(a), making reference instead to Table 2.01-7(a), which became effective on September 29, 2014. As a result of the effective dates, the removal of Tables 24.05-1(a), 30.01-5(d), 70.05-1(a), 90.05-1(a), and 188.05-1(a) occurred prior to the amendment of the same tables. As such, the Office of Federal Register could not make the amendments to the removed tables and instead placed an editorial note in the CFR noting this discrepancy. This correction removes the amendatory instructions published in the final rule of September 10, 2014, (79 FR 53621), so that the editorial note to the CFR can be removed.

In FR Doc. 2014-21541, published on September 10, 2014, (79 FR 53621), make the following corrections:

§ 24.05-1 [Corrected]

1. On page 53630, in the third column, remove amendatory instruction 4. and the amendment to § 24.05-1.

§ 30.01-5 [Corrected]

2. On page 53631, in the second column, remove amendatory instruction 11. and the amendment to § 30.01-5.

§ 70.05-1 [Corrected]

3. On page 53631, in the second column, remove amendatory instruction 13. and the amendment to § 70.05-1.

§ 90.05-1 [Corrected]

4. On page 53631, in the second column, remove amendatory instruction 15. and the amendment to § 90.05-1.

§ 188.05-1 [Corrected]

5. On page 53631, in the third column, remove amendatory instruction 17. and the amendment to § 188.05-1.

Dated: November 12, 2014.
Katia Cervoni,
Chief, Office of Regulations and Administrative Law, U.S. Coast Guard.

[FR Doc. 2014-27154 Filed 11-14-14; 8:45 am]

BILLING CODE 9110-04-P